DEPARTMENT OF HOMELAND SECURITY

Federal Emergency Management Agency

[Docket ID FEMA-2020-0002; Internal Agency Docket No. FEMA-B-2068]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before February 23, 2021.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-2068, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Delaware County, Iowa and Incorporated Areas
Project: 16-07-2177S Preliminary Date: May 29, 2020
Unincorporated Areas of Delaware County | Delaware County Engineering Office, 2139 Highway 38, Manchester, IA 52057.
Ellis County, Kansas and Incorporated Areas
Project: 18-07-0006S Preliminary Date: June 26, 2020
City of Ellis | Municipal Offices, 815 Jefferson Street, Ellis, KS 67637.
City of Hays | City Hall, 1507 Main Street, Hays, KS 67601.
City of Schoenchen | Ellis County Administrative Center, 718 Main Street, Hays, KS 67601.
City of Victoria | City Hall, 1005 4th Street, Victoria, KS 67671.
Unincorporated Areas of Ellis County | Ellis County Administrative Center, 718 Main Street, Hays, KS 67601.
Franklin County, Kansas and Incorporated Areas
Project: 19-07-0034S Preliminary Date: June 9, 2020
City of Lane | City Hall, 600 3rd Street, Lane, KS 66042.
City of Ottawa | City Hall, 101 South Hickory Street, Ottawa, KS 66067.
City of Pomona | City Hall, 219 Jefferson Street, Pomona, KS 66076.
City of Princeton | City Hall, 316 Galveston Street, Princeton, KS 66078.
City of Rantoul | City Hall, 120 East Main Street, Rantoul, KS 66079.
City of Wellsville | City Hall, 411 Main Street, Wellsville, KS 66092.
City of Williamsburg | City Hall, 123 West William Street, Williamsburg, KS 66095.
Unincorporated Areas of Franklin County | Franklin County Courthouse, 315 South Main Street, Ottawa, KS 66067.
Lyon County, Kansas and Incorporated Areas
Project: 19-07-0038S Preliminary Date: May 22, 2020
City of Allen | City Hall, 4 West 5th Street, Allen, KS 66833.
City of Americus | City Hall, 604 Main Street, Americus, KS 66835.
City of Emporia | City Hall, 111 East 6th Avenue, Emporia, KS 66801.
City of Neosho Rapids | City Hall, 238 North Main Street, Neosho Rapids, KS 66864.
City of Olpe | City Hall, 102 Westphalia Street, Olpe, KS 66865.
City of Reading | City Hall, 613 1st Street, Reading, KS 66868.
Unincorporated Areas of Lyon County | Lyon County Courthouse, 430 Commercial Street, Emporia, KS 66801.
Osage County, Kansas and Incorporated Areas
Project: 19-07-0036S Preliminary Date: April 14, 2020
City of Burlingame | City Hall, 101 East Santa Fe Avenue, Burlingame, KS 66413.
City of Carbondale | City Offices, 234 Main Street, Carbondale, KS 66414.
City of Lyndon | City Hall, 730 Topeka Avenue, Lyndon, KS 66451.
City of Melvern | City Hall, 141 Southwest Main Street, Melvern, KS 66510.
City of Osage City | City Hall, 201 South 5th Street, Osage City, KS 66523.
City of Overbrook | City Hall, 401 Maple Street, Overbrook, KS 66524.
City of Quenemo | City Hall, 109 East Maple Street, Quenemo, KS 66528.
City of Scranton | Municipal Building, 120 West Boone Street, Scranton, KS 66537.
Unincorporated Areas of Osage County | Osage County Courthouse, 717 Topeka Avenue, Lyndon, KS 66451.
Stevens County, Minnesota and Incorporated Areas
Project: 18-05-0004S Preliminary Date: May 29, 2020
City of Alberta | City Hall, 309 Main Street, Alberta, MN 56207.
City of Donnelly | City Hall, 107 3rd Street, Donnelly, MN 56235.
City of Morris | City Hall, 610 Oregon Avenue, Morris, MN 56267.
Unincorporated Areas of Stevens County | Stevens County Courthouse, 400 Colorado Avenue, Morris, MN 56267.

[FR Doc. 2020-26055 Filed 11-24-20; 8:45 am]

BILLING CODE 9110-12-P